DEPARTMENT OF ENERGY

Federal Energy Regulatory Commission

[Docket No. RP00-304-000]

PG&E Gas Transmission, Northwest Corporation; Notice of Tariff Filing

June 5, 2000.

Take notice that on May 31, 2000, PG&E Gas Transmission, Northwest Corporation (PG&E GT-NW) tendered for filing as part of its FERC Gas Tariff, First Revised Volume No. 1-A: Twenty-fourth Revised Sheet No. 5. PG&E GT-NW requests that the above-referenced tariff sheet become effective July 1, 2000.

PG&E GT-NW asserts that the purpose of this filing is to comply with Paragraph 37 of the terms and conditions of First Revised Volume No. 1-A of its FERC Gas Tariff, “Adjustment for Fuel, Line Loss and Other Unaccounted For Gas Percentages.” These tariff changes reflect that PG&E GT-NW's fuel and line loss surcharge percentage will increase to 0.0015% per Dth per pipeline-mile for the six-month period beginning July 1, 2000. Also included, as required by Paragraph 37, are workpapers showing the derivation of the current fuel and line loss percentage in effect for each month the fuel tracking mechanism has been in effect.

PG&E GT-NW further states that a copy of this filing has been served on PG&E GT-NW's jurisdictional customers and interested state regulatory agencies.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-14565 Filed 6-8-00; 8:45 am]

BILLING CODE 6717-01-M